DEPARTMENT OF ENERGY

Federal Energy Regulatory Commission

[Docket No. AD03-7-000]

Natural Gas Price Formation; Notice of Staff Technical Conference

March 14, 2003.

The Federal Energy Regulatory Commission (FERC) will hold a technical conference on Thursday, April 24, 2003, to be held at FERC headquarters, 888 First Street, NW., Washington, DC, in the Commission Meeting Room (Room 2C). The purpose is to discuss issues related to the adequacy of natural gas price information. This would include how data are collected, how publicly available quotes are checked for authenticity and reliability, adequacy of coverage, what effort is made to determine whether the information received and published is complete or representative of its type of transaction, and what models best serve price discovery needs for natural gas markets.

We plan to hear from those who report the transactions, those receiving and publishing the price information, those using the published data reports, and those with constructive suggestions for overcoming impediments and inconsistencies and specific proposals. We request that anyone with a specific proposal that would be useful to review before the conference file the proposal in this docket number for all to access. (Instructions on filing electronically can be found at http://www.ferc.gov/documents/makeanelectronicfiling/doorbell.htm.) We would like to explore actions necessary to develop trustworthy price information.

The one-day meeting will begin at 8:30 a.m. and conclude about 5 p.m. All interested parties are invited to attend. There is neither pre-registration nor a registration fee to attend.

We look forward to an informative discussion of the issues and options that would best provide all participants in the market clear, transparent, dependable, and accurate price signals with which to make informed decisions.

The Capitol Connection offers coverage of all open and special Commission meetings held at the Commission's headquarters live over the Internet, as well as via telephone and satellite. For a fee, you can receive these meetings in your office, at home, or anywhere in the world. To find out more about Capitol Connection's live Internet, phone bridge, or satellite coverage, contact David Reininger or Julia Morelli at (703) 993-3100, or visit www.capitolconnection.org. Capitol Connection also offers FERC open meetings through its Washington, DC-area television service.

The conference will be transcribed. Those interested in obtaining transcripts of the conference should contact Ace Federal Reporters at (202) 347-3700 or (800) 336 6646. Transcripts will be made available to view electronically under this docket number seven working days after the conference. Anyone interested in purchasing videotapes of the meeting should call VISCOM at (703) 715-7999.

We will issue further details on the conference, including the Agenda and a list of participants, as plans evolve. For additional information, please contact Saida Shaalan of the Office of Market Oversight & Investigations at 202-502-8278 or by e-mail, Saida.Shaalan@ferc.gov.

Magalie R. Salas,
Secretary.

[FR Doc. 03-6720 Filed 3-19-03; 8:45 am]

BILLING CODE 6717-01-P